FEDERAL RESERVE SYSTEM

Agency Information Collection Activities: Announcement of Board Approval Under Delegated Authority and Submission to OMB

Summary:

Background

Notice is hereby given of the final approval of proposed information collections by the Board of Governors of the Federal Reserve System (Board) under OMB delegated authority, as per 5 CFR 1320.16 (OMB Regulations on Controlling Paperwork Burdens on the Public). Board-approved collections of information are incorporated into the official OMB inventory of currently approved collections of information. Copies of the Paperwork Reduction Act Submission, supporting statements and approved collection of information instrument(s) are placed into OMB's public docket files. The Federal Reserve may not conduct or sponsor, and the respondent is not required to respond to, an information collection that has been extended, revised, or implemented on or after October 1, 1995, unless it displays a currently valid OMB control number.

For Further Information Contact: Federal Reserve Board Clearance Officer—Michelle Shore—Division of Research and Statistics, Board of Governors of the Federal Reserve System, Washington, DC 20551 (202-452-3829).

OMB Desk Officer—Alexander T. Hunt—Office of Information and Regulatory Affairs, Office of Management and Budget, New Executive Office Building, Room 10235, Washington, DC 20503.

Final approval under OMB delegated authority of the extension for three years, with revision, of the following reports:

1. Report titles: Application for Prior Approval to Become a Bank Holding Company or for a Bank Holding Company to Acquire an Additional Bank or Bank Holding Company; Notification for Prior Approval to Become a Bank Holding Company or for a Bank Holding Company to Acquire an Additional Bank or Bank Holding Company; and Notification for Prior Approval to Engage Directly or Indirectly in Certain Nonbanking Activities.

Agency form numbers: FR Y-3, FR Y-3N, and FR Y-4.

OMB control number: 7100-0121.

Frequency: Event generated.

Reporters: Corporations seeking to become bank holding companies (BHCs), or BHCs and state chartered banks that are members of the Federal Reserve System.

Annual reporting hours: 22,920 hours.

Estimated average hours per response: FR Y-3 Section 3(a)(1): 49 hours; FR Y-3. Section 3(a)(3) and 3(a)(5): 59.5 hours; FR Y-3N Section 3(a)(1), 3(a)(3), and 3(a)(5): 5 hours; FR Y-4 Complete notification: 12 hours; FR Y-4 Expedited notification: 5 hours; and FR Y-4 Post-consummation: 30 minutes.

Number of respondents: 674.

General description of report: This information collection is mandatory (12 U.S.C. 1842(a), 1844(b), and 1843(j)(1)(b)). The forms are designed so that all information contained in a filing is available to the public unless the applicant, notificant, or individual(s) can substantiate that an exemption under the Freedom of Information Act (FOIA) is satisfied.

Abstract: The Federal Reserve requires the submission of these filings for regulatory and supervisory purposes and to allow the Federal Reserve to fulfill its statutory obligations under the Bank Holding Company Act of 1956. These filings collect information on proposals by bank holding companies involving formations, acquisitions, mergers, and nonbanking activities. The Federal Reserve must obtain this information to evaluate each individual transaction with respect to financial and managerial factors, permissibility, competitive effects, net public benefits, and the impact on the convenience and needs of affected communities.

Current Actions: On February 4, 2008, the Federal Reserve published a notice in the Federal Register (73 FR 6515) requesting public comment for sixty days on the extension, with revision, of the application and notification forms. The comment period for this notice expired on April 4, 2008. The Federal Reserve did not receive any comment letters. The revisions will be implemented as proposed.

2. Report title: International Applications and Prior Notifications under Subparts A and C of Regulation K.

Agency form number: FR K-1.

OMB control number: 7100-0107.

Frequency: Event generated.

Reporters: State member banks, Edge and agreement corporations, bank holding companies, and certain foreign banking organizations.

Annual reporting hours: 889 hours.

Estimated average hours per response: Attachments A and B, 11.5 hours; Attachments C through G, 10 hours; Attachments H and I, 15.5 hours; Attachment J, 10 hours; Attachment K, 20 hours.

Number of respondents: 29.

General description of report: This information collection is mandatory (12 U.S.C. 601-604(a) and 611-631)) and (12 U.S.C. 1843(c)(13), 1843(c)(14) and 1844(c)). The applying organization has the opportunity to request confidentiality for information that it believes will qualify for an FOIA exemption.

Abstract: Subpart A of Regulation K governs the foreign investments and activities of member banks, Edge and agreement corporations, bank holding companies, and certain investments by foreign organizations. Subpart C of Regulation K governs investments in export trading companies. The FR K-1 information collection contains eleven attachments for the application and notification requirements embodied in Subparts A and C of Regulation K. The Federal Reserve requires these applications for regulatory and supervisory purposes and to allow the Federal Reserve to fulfill its statutory obligations under the Federal Reserve Act and the Bank Holding Company Act of 1956.

Current Actions: On February 4, 2008, the Federal Reserve published a notice in the Federal Register (73 FR 6515) requesting public comment for sixty days on the extension, with revision, of the application and notification forms. The comment period for this notice expired on April 4, 2008. The Federal Reserve did not receive any comment letters. The revisions will be implemented as proposed.

3. Report titles: Consumer Satisfaction Questionnaire; Federal Reserve Consumer Help Center Survey; and Federal Reserve Consumer Help Online Complaint Form.

Agency form numbers: FR 1379a, FR 1379b, and FR 1379c.

OMB control number: 7100-0135.

Frequency: Event generated.

Reporters: Consumers.

Annual reporting hours: 2,037 hours.

Estimated average hours per response: FR 1379a: 5 minutes; FR 1379b: 5 minutes; FR 1379c: 10 minutes.

Number of respondents: FR 1379a: 2,640; FR 1379b: 1,800; FR 1379c: 10,000.

General description of report: This information collection is voluntary and authorized by law (15 U.S.C. 57(a)(f)(1)). While the individual respondent's information is confidential, once such information has been aggregated, the aggregated information is not considered confidential. The information may be aggregated with responses from other respondents and released in statistical format while maintaining the privacy of the individual respondents. If a respondent provides information not specifically solicited on the form, that information may be exempt from disclosure under FOIA (5 U.S.C. § 552(b)(4), (b)(6), or (b)(7)) upon specific request from the respondent.

Abstract: The FR 1379 questionnaires are sent to consumers who have filed complaints with the Federal Reserve against state member banks. The information gathered on the questionnaires is used to determine whether consumers are satisfied with the way the Federal Reserve Bank handled their complaints and to solicit suggestions for improving the complaint investigation process.

Current Actions: On February 4, 2008, the Federal Reserve published a notice in the Federal Register (73 FR 6515) requesting public comment for sixty days on the extension, with revision, for the FR 1379a, b, c questionnaires. The comment period expired on April 4, 2008. The Federal Reserve did not receive any comment letters. The revisions will be implemented as proposed.

Board of Governors of the Federal Reserve System, April 11, 2008.
Robert deV. Frierson,
Deputy Secretary of the Board.

[FR Doc. E8-8115 Filed 4-15-08; 8:45 am]

BILLING CODE 6210-01-P